DEPARTMENT OF TRANSPORTATION

Office of the Secretary

[Docket No. DOT-FAA-2016-1330]

Privacy Act of 1974; Department of Transportation, Federal Aviation Administration, DOT/FAA-801; Aviation Registration Records System of Records Notice

AGENCY: Office of the Departmental Chief Information Officer, Office of the Secretary of Transportation, DOT.

ACTION: Notice of Privacy Act system of records.

SUMMARY: In accordance with the Privacy Act of 1974, the United States Department of Transportation proposes to update and reissue a current Department of Transportation system of records titled, “Department of Transportation Federal Aviation Administration; DOT/FAA-801, Aviation Registration Records System.” This Privacy Act Systems of Records Notice (SORN) is being updated to reflect an additional system location, categories of records, authorities, storage, retrievability, and safeguarding related to implementation of the FAA General Aviation (GA) Automatic Dependent Surveillance-Broadcast (ADS-B) Rebate Program. This SORN is also being updated to add an additional location for the ADS-B Program. In addition, new categories of records, Rebate Reservation Code and Incentive Code, Public ADS-B Performance Reports (PAPR) are being added. The authorities section is being updated to reflect the new authority under Section 221(a) of the FAA Modernization and Reform Act of 2012 which authorizes the ADS-B incentive program. The storage, retrievability, and safeguarding procedures sections are being updated to reflect that ADS-B records are maintained and safeguarded separate from the Civil Aircraft Registry (CAR) records in FAA facilities. A previously published Routine Use is being updated to include the sharing of ADS-B summary reports with members of the public in order facilitate compliance with FAA equipage requirements and performance standards. The records retention section has been updated to include records created to support the ADS-B Out Final Rule and Rebate programs.

DATES: Written comments should be submitted on or before September 14, 2016. The Department may publish an amended Systems of Records Notice in light of any comments received. This new system will be effective September 14, 2016.

ADDRESSES: You may submit comments, identified by docket number DOT-OST-2015-0235 by any of the following methods:

• Federal e-Rulemaking Portal: http://www.regulations.gov. Follow the instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9 a.m. and 5 p.m. ET, Monday through Friday, except Federal Holidays.

• Fax: (202) 493-2251.

Instructions: You must include the agency name and docket number DOT-FAA-2016-13307. All comments received will be posted without change to http://www.regulations.gov, including any personal information provided.

Privacy Act: Anyone is able to search the electronic form of all comments received in any of our dockets by the name of the individual submitting the comment (or signing the comment, if submitted on behalf of an association, business, labor union, etc.). You may review the Department of Transportation's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: For questions, please contact: Claire W. Barrett, Departmental Chief Privacy Officer, Privacy Office, Department of Transportation, Washington, DC 20590; privacy@dot.gov; or 202.527.3284.

SUPPLEMENTARY INFORMATION:

I. Background

In accordance with the Privacy Act of 1974, 5 U.S.C. 552a, the Department of Transportation (DOT)/Federal Aviation Administration (FAA) proposes to update and reissue a DOT system of records titled, “DOT/FAA-801 Aviation Registration Records.”

In May of 2010, the FAA published a final rule titled Department of Transportation, Federal Aviation Administration, 14 CFR part 91, Automatic Dependent Surveillance-Broadcast (ADS-B) Out Performance Requirements. This rule mandates that aircraft flying in certain controlled airspace be equipped with ADS-B Out technology by Jan. 1, 2020. In order to accelerate compliance with the 2010 ADS-B Out Final Rule, the FAA is offering a financial incentive to owners of general aviation aircraft to encourage compliance with the ADS-B Out Final Rule. Rebates are available to owners of U.S.-registered, fixed-wing, single-engine piston aircraft that purchase and install FAA Technical Standard Orders (TSO) certified avionics. The FAA will offer up to 20,000 rebates of $500 on a first-come, first-served basis to owners of these aircraft; and so long as funding is available or one (1) year from the beginning of the program; whichever occurs first.

In order for an aircraft owner to initiate the rebate claim process, they must access the GA ADS-B Rebate Program web application, provide the aircraft registration number, their email address, signature and click statements acknowledging no liability to the FAA for their ADS-B equipment. The ADS-B rebate application will manage rebate reservation and claim records which includes a rebate code, incentive code, and the email address associated with every rebate reservation and claim. The purpose of the rebate reservation code and incentive code is to allocate one of the 20,000 rebates available and to ensure the aircraft has completed the equipment installation. Once the reservation application process is complete, the owner is emailed a rebate reservation code. This unique code is used in the ADS-B rebate Web site application to ensure that only one aircraft and associated owner receives a rebate.

ADS-B, Traffic Information Service—Broadcast (TIS-B), and Flight Information Service—Broadcast (FIS-B) records are created when a pilot submits an ADS-B/TIS-B/FIS-B Problem Report to the FAA to report an issue or problem with any of the ADS-B-related services provided by the FAA. The FAA uses the email address collected in order to communicate back to the reporting pilot about the issue or problem that they reported.

The ADS-B Compliance Monitor (CM) enables FAA to assist aircraft owners, pilots and avionics installers to validate the performance of their ADS-B equipment installation upon request. This is communicated via the Public ADS-B Performance Report (PAPR).

In order to complete the claim rebate process, no later than 60 days after the scheduled installation date provided in the reservation, the aircraft owner must go to the GA ADS-B Rebate Web site and provide their aircraft registration number, rebate reservation code, incentive code and email address. If approved, the rebate payments will be processed by the third party vendor Aircraft Electronics Association (AEA). AEA will then issue the aircraft owner a rebate check based on the information provided by the FAA. The FAA will receive the check number and date of issuance from AEA to validate the process was completed.

This system of records notice (SORN) is being updated to add the new categories of records held for operational implementation of the ADS-B Out Rulemaking including administration of the GA ADS-B Rebate program on-going compliance monitoring, and ADS-B/TIS-B/FIS-B problem report programs. The authorities for collection are being expanded to include Section 221(a) of the FAA Modernization Act of 2012 which provides for the establishment of the ADS-B incentive program which is in the interest of achieving next generation capabilities for such aircraft. The purpose section is being updated to reflect the data collected and used by the FAA necessary validate aircraft eligibility for the ADS-B rebate program and to send payment to the aircraft owner`s address of record. The data collected and utilized includes information previously provided by aircraft owners during aircraft registration process and maintained in the CAR as well as the separate collection of.name, home address and aircraft tail number. In addition, to support of the ADS-B Rebate program the information contained in these systems will be used by the FAA to provide program oversight and perform statistical analysis of various parameters of the FAA ADS-B Program in support of FAA's safety programs and agency management. The storage and safeguarding sections of this SORN are being updated to reflect that payment information is being stored at a third party vendor location to issue a rebate to aircraft owners in connection with the ADS-B rebate program.

The records retention section is being updated to reflect the proposed records schedule for the ADS-B rebate, CM programs and ADS-B/TIS-B/FIS-B Problem Reports. Finally the retrievability section is being updated because the ADS-B rebate program and ADS-B CM records are retrieved by the aircraft registration number. Additional non-substantive modifications have been made to the SORN text to provide clarity.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

System of Records

Department of Transportation (DOT)/FAA—801.

SYSTEM NAME:

Department of Transportation (DOT)/ALL—801, Aviation Registration Records.

SECURITY CLASSIFICATION:

Unclassified, sensitive.

SYSTEM LOCATION:

Aircraft Registration Branch, Federal Aviation Administration, Mike Monroney Aeronautical Center, Oklahoma City, OK 73125.

FAA UAS Registration Service is a contractor managed system and the records are located by the contract manager: Aircraft Registration Branch, Federal Aviation Administration, Mike Monroney Aeronautical Center, Oklahoma City, OK 73125.

FAA ADS-B CM database, the GA ADS-B Rebate application database, the ADS-B/TIS-B/FIS-B Problem Report database, and associated records are located at FAA William J. Hughes Technical Center. 101 Atlantic City International Airport, Egg Harbor Township, New Jersey 08405.

CATEGORIES OF INDIVIDUALS COVERED BY THE SYSTEM:

Aircraft owners, lien holders, and lessees.

CATEGORIES OF RECORDS IN THE SYSTEM:

Aircraft Registration Numbers; Aircraft manufacturer name, model, serial numbers, Registered owner name, address, email, telephone number; Registration Information: (Status: Pending, valid, expired, canceled; type of ownership: Individual, partnership, corporate, government, co-owned; dates: Registration and expiry; airworthiness: Type, status, date); Aircraft registration documents; Instruments affecting aircraft ownership, loan, lien, or lease interests; Applications for airworthiness; Major repair and alteration reports; Registered owner credit card information (FAA UAS Registration Service user only). ADS-B Rebate Reports (including but not limited to Rebate Reservation Code; Incentive Code, and user-specified date of validation flight); ADS-B/TIS-B/FIS-B Problem Reports including name, email address, and information about the reported issue/problem, including location and aircraft avionics equipage from pilots.

AUTHORITY FOR MAINTENANCE OF THE SYSTEM:

i. 49 U.S.C. 44102, Registration requirements

ii. 49 U.S.C. 44103, Registration of aircraft

iii. 49 U.S.C. 44104, Registration of aircraft components and dealer's certificates of registration

iv. 49 U.S.C. 44105, Suspension and revocation of aircraft certificates

v. 49 U.S.C. 44106, Revocation of aircraft certificates for controlled substance violations

vi. 49 U.S.C. 44107, Recordation of conveyances, leases, and security instruments

vii. 49 U.S.C. 44110, Information about aircraft ownership and rights

viii. 49 U.S.C. 44111, Modifications in registration and recordation system for aircraft not providing air transportation

ix. 14 CFR parts 45, 47-49

x. Section 221(a) of the FAA Modernization and Reform Act of 2012

PURPOSE(S):

Provide a register of United States civil aircraft to aid in the national defense and to support a safe and economically strong civil aviation system, and to meet treaty requirements under the Convention on International Civil Aviation, Annex 7. To determine that aircraft are registered in accordance with the provisions of 49 U.S.C. 44103. To support FAA safety programs and agency management. To aid law enforcement and aircraft accident investigations. To serve as a repository of legal documents to determine legal ownership of aircraft. Provide aircraft owners and operators information about potential mechanical defects or unsafe conditions of their aircraft in the form of airworthiness directives. To aid in compliance with FAA standards including but not limited to agency enforcement regulations. Educate owners regarding safety requirements for operation. Receive and record payment of aircraft registration fee. Determining eligibility for and issuance of a rebate for equipage under the GA ADS-B Rebate Program. After January 1, 2020, the FAA Flight Standards organization will utilize the ADS-B Compliance Monitor in ongoing enforcement of agency regulations. To communicate with aircraft pilots and owners regarding reported ADS-B-related service issues.

ROUTINE USES OF RECORDS MAINTAINED IN THE SYSTEM, INCLUDING CATEGORIES OF USERS AND THE PURPOSES OF SUCH USES:

In addition to other disclosures generally permitted under 5 U.S.C. 552a(b) of the Privacy Act, all or a portion of the records or information contained in this system may be disclosed outside DOT as a routine use pursuant to 5 U.S.C. 552a(b)(3) as follows:

1. To the public (including government entities, title companies, financial institutions, international organizations, FAA designee airworthiness inspectors, and others) information, including aircraft owner's name, address, United States Registration Number, aircraft type, legal documents related to title or financing of an aircraft, and ADB-S summary reports. Email addresses, credit card information, and telephone numbers of small unmanned aircraft system (sUAS) owners registered under 14 CFR part 48 will not be disclosed pursuant to this Routine Use. The public may only retrieve the name and address of owners of sUAS registered under 14 CFR part 48 by the unique identifier displayed on the aircraft.

2. To law enforcement, when necessary and relevant to a FAA enforcement activity.

3. The Department has also published 14 additional routine uses applicable to all DOT Privacy Act systems of records, including this system. These routine uses are published in the Federal Register at 75 FR 82132, December 29, 2010, and 77 FR 42796, July 20, 2012, under “Prefatory Statement of General Routine Uses” (available at http://www.transportation.gov/privacy/privacyactnotices).

DISCLOSURE TO CONSUMER REPORTING AGENCIES:

None.

POLICIES AND PRACTICES FOR STORING, RETRIEVING, ACCESSING, RETAINING, AND DISPOSING OF RECORDS IN THE SYSTEM:

STORAGE:

Individual records for registered and canceled aircraft are maintained in an electronic digital image system. Some canceled aircraft records are stored as paper file folders until their conversion to digital images is completed. Backup copies of imaged records are stored at remote locations. ADS-B Rebate Web site records, ADS-B/TIS-B/FIS-B Problem Report records, and ADS-B CM records are maintained on the Electronic Data Centers Oracle Real Application Clusters (RAC) Systems at FAA facilities. ADS-B rebate program payment records are stored on the FAA servers.

RETRIEVABILITY:

Records of registered and cancelled aircraft in the digital image system may be retrieved by registration number, the manufacturer's name, model, and serial-number, credit card transaction number, and by the name of the current registered owner. Records are retrieved by the aircraft description. Unconverted canceled records may be retrieved using a former registration number and the manufacturer's name, model and serial-number. ADS-B rebate program and ADS-CM records are retrieved by the aircraft registration number. TIS-B/FIS-B records are retrieved by the reporting pilot's name.

SAFEGUARDS:

Records in this system are safeguarded in accordance with applicable rules and policies, including all applicable DOT automated systems security and access policies. Strict controls have been imposed to minimize the risk of compromising the information that is being stored. Access to the computer system containing the records in this system is limited to individuals who have a need to know the information for the performance of their official duties and who have appropriate clearances or permissions. Access to ADS-B CM Rebate and ADS-B/TIS-B/FIS-B Problem Report records are limited to those with appropriate security credentials, an authorized purpose, and need-to-know. The FAA deploys role-based access controls in addition to other protection measures reviewed and certified by the FAA's cybersecurity professionals to maintain the confidentiality, integrity, and availability requirements of the system.

RETENTION AND DISPOSAL:

Aircraft registration records submitted under 14 CFR part 47 have been deemed by the National Archives and Records Administration to be of permanent value (see NARA Schedule N1-237-04-3). Paper copies of registration submissions are destroyed once the original is scanned into the system and the digital image is determined to be an adequate substitute for paper records. Copies of the Aircraft Registration system are transferred to NARA on an annual basis. The FAA has submitted to NARA a recommended retention period for aircraft registration records submitted under 14 CFR part 48 as permanent which is consistent with the registration of manned aircraft. Until small UAS registration records have been scheduled with NARA the FAA will provide annual snapshots of the database to NARA to determine historical value. The FAA (DAA-0237-2016-0008) proposes to maintain most records created in support of the ADS-B Rebate Program for 3 years after the program ends; payment records will be retained for 6 years; The FAA will manage ADS-B related records as permanent records until the proposed schedule is approved by NARA.

SYSTEM MANAGER(S) AND ADDRESS:

Manager, Aircraft Registration Branch, AFS-750, Federal Aviation Administration, Mike Monroney Aeronautical Center, P.O. Box 25082, Oklahoma City, OK 73125. Manager, Automatic Dependent Surveillance—Broadcast (ADS B) Program, AJM-2323 800 Independence Ave. SW., Washington, DC 20591.

NOTIFICATION PROCEDURE:

Same as “System manager.”

RECORD ACCESS PROCEDURES:

Same as “System manager.”

CONTESTING RECORD PROCEDURES:

Same as “System manager.”

RECORD SOURCE CATEGORIES:

Individuals, manufacturers of aircraft, maintenance inspectors, mechanics, and FAA officials. All forms associated with this system and subject to the Paperwork Reduction Act have been approved by the Office of Management and Budget (OMB) under the referenced information collection requests; OMB control numbers, 2120-0024, 2120-0029, 2120-0042, 2420-0043, 2120-0078, and 2120-0729.

EXEMPTIONS CLAIMED FOR THE SYSTEM:

None.

Issued in Washington, DC.
Claire W. Barrett,
Departmental Chief Privacy Officer.

[FR Doc. 2016-19354 Filed 8-12-16; 8:45 am]

BILLING CODE 4910-9X-P